DEPARTMENT OF STATE

[Public Notice 4353]

Bureau of Democracy, Human Rights and Labor; First Public Meeting of the Advisory Committee on Persons With Disabilities

Summary: The Advisory Committee on Persons with Disabilities will conduct its first public meeting on August 15 from 11 a.m.-4 p.m. The meeting is to be held in the Loy Henderson Room of the Harry S. Truman Building of the U.S. Department of State in Washington, DC, located at 2201 “C” St. NW., Washington, DC 20520. Individuals wishing to attend must provide name, date of birth as well as social security number (or passport number and country of citizenship) to Robin Lambert via email (lambertRD@state.gov) or telphone ((202) 657-3358) before 6 p.m. on Thursday, August 11, 2005. Attendees must also have valid, government-issued identification in order to enter the Department of State building.

The Advisory Committeee is made up of the Secretary of State, the Administrator for International Development and an Executive Director (all ex officio members); and eight members from outside the United States Government: Senda Benaissa, Walter Bollinger, Joni Eareckson Tada, Vail Horton, John Kemp, Albert H. Linden, Jr., Kathleen Martinez, and John Register.

Established on June 23, 2004, the Advisory Committee will serve the Secretary and the Administrator in an advisory capacity with respect to the consideration of the interests of persons with disabilities in formulation and implementation of U.S. foreign policy and foreign assistance. The Committee is established under the general authority of the Secretary and the Department of State as set forth in Title 22 of the United States Code, in particular sections 2656 and 2651a, and in accordance with the Federal Advisory Committee Act, as amended.

Dated: August 1, 2005.
Christopher N. Camponovo,
Foreign Service Officer, Bureau of Democracy, Human Rights and Labor, Department of State.

[FR Doc. 05-15450 Filed 8-3-05; 8:45 am]

BILLING CODE 4710-18-P